ENVIRONMENTAL PROTECTION AGENCY

[FRL OP-OFA-148]

Environmental Impact Statements; Notice of Availability

Responsible Agency: Office of Federal Activities, General Information 202-564-5632 or https://www.epa.gov/nepa.

Weekly receipt of Environmental Impact Statements (EIS) Filed October 7, 2024 10 a.m. EST Through October 11, 2024 10 a.m. EST Pursuant to 40 CFR 1506.9.

Notice: Section 309(a) of the Clean Air Act requires that EPA make public its comments on EISs issued by other Federal agencies. EPA's comment letters on EISs are available at: https://cdxapps.epa.gov/cdx-enepa-II/public/action/eis/search.

EIS No. 20240185, Draft, NRCS, GA, Watershed Plan and Environmental Impact Statement for the Lower Little Tallapoosa River Watershed Structure No. 25A, Comment Period Ends: 12/02/2024, Contact: Sharon Swagger 706-546-2203.

EIS No. 20240186, Final, DOE, NAT, Department of Energy Activities in Support of Commercial Production of High-Assay Low-Enriched Uranium (HALEU), Review Period Ends: 11/18/2024, Contact: James Lovejoy 208-526-6805.

EIS No. 20240187, Final, USFS, AZ, Apache-Sitgreaves National Forests Public Motorized Travel Management Plan, Review Period Ends: 11/18/2024, Contact: Scott Grunder 928-333-6302.

EIS No. 20240188, Final, RUS, SC, McClellanville 115 kV Transmission Line Project, Review Period Ends: 12/02/2024, Contact: Suzanne Kopich 202-961-8514.

Dated: October 11, 2024.
Timothy Witman,
Acting Director, NEPA Compliance Division, Office of Federal Activities.

[FR Doc. 2024-24112 Filed 10-17-24; 8:45 am]

BILLING CODE 6560-50-P